DEPARTMENT OF TRANSPORTATION

Surface Transportation Board

[STB Finance Docket No. 35084]

Kansas City Terminal Railway Company—Acquisition Exemption—BNSF Railway Company

Kansas City Terminal Railway Company (KCT), a Class III rail carrier, has filed a verified notice of exemption under 49 CFR 1150.41 to acquire by purchase from BNSF Railway Company approximately 5.5 miles of rail line, extending from milepost 5.78 near Sheffield Junction to the end of the track at milepost 11.23 near Blue Valley, in Jackson County, MO.

This transaction is related to the concurrently filed notice of exemption in STB Finance Docket No. 35085, Kansas City Transportation Company LLC—Lease and Operation Exemption—Kansas City Terminal Railway Company, wherein Kansas City Transportation Company LLC seeks to lease from KCT and to operate the line that KCT is purchasing from BNSF.

Based on projected revenues for the line, KCT expects to remain a Class III rail carrier after consummation of the proposed transaction. KCT certifies that its projected annual revenues as a result of this transaction will not result in the creation of a Class II or Class I rail carrier. Because the projected annual revenues of the line, together with KCT's projected annual revenue, will exceed $5 million, KCT certified, on September 21, 2007, that it had sent the required notice of the transaction to the national and local offices with employees on the affected lines and posted a copy of the notice at the workplace of the employees on the affected lines on September 20, 2007.

KCT states that it intends to consummate the transaction on or after November 20, 2007. The earliest this transaction may be consummated is November 20, 2007, the effective date of the exemption (60 days after KCT certified its compliance with the labor notice requirements of 49 CFR 1150.42(e)).

If the notice contains false or misleading information, the exemption is void ab initio. Petitions to revoke the exemption under 49 U.S.C. 10502(d) may be filed at any time. The filing of a petition to revoke will not automatically stay the transaction. Petitions for stay must be filed no later than November 13, 2007 (at least 7 days before the exemption becomes effective).

An original and 10 copies of all pleadings, referring to STB Finance Docket No. 35084, must be filed with the Surface Transportation Board, 395 E Street, SW., Washington, DC 20423-0001. In addition, one copy of each pleading must be served on Michael J. Barron, Jr., Fletcher & Sippel LLC, 29 North Wacker Drive, Suite 920, Chicago, IL 60606-2832.

Board decisions and notices are available on our Web site at http://www.stb.dot.gov.

Decided: October 30, 2007.
By the Board, David M. Konschnik, Director, Office of Proceedings.
Vernon A. Williams,
Secretary.

[FR Doc. E7-21568 Filed 11-1-07; 8:45 am]

BILLING CODE 4915-01-P